DEPARTMENT OF HOMELAND SECURITY

Coast Guard

46 CFR Part 11

[Docket No. USCG-2020-0492]

RIN 1625-AC64

Towing Vessel Firefighting Training

AGENCY: Coast Guard, DHS.

ACTION: Final rule.

SUMMARY: The Coast Guard is issuing this final rule to revise the training requirements for national Merchant Mariner Credential endorsements as master of towing vessels (limited) or mate (pilot) of towing vessels on inland waters or Western Rivers routes. Consistent with recommendations from two Federal advisory committees, this rule gives mariners seeking these endorsements the option of taking a modified basic firefighting course. That course excludes training on equipment that is not required to be carried on towing vessels operating on inland waters or the Western Rivers. Applicants who take the modified basic firefighting course will reduce their costs because it is shorter and less expensive than the basic firefighting course.

DATES: This final rule is effective April 1, 2024.

ADDRESSES: To view documents mentioned in this preamble as being available in the docket, go to www.regulations.gov, type USCG-2020-0492 in the search box, and click “Search.” Next, in the Document Type column, select “Supporting & Related Material.”

FOR FURTHER INFORMATION CONTACT: For information about this document, call or email Mr. James Cavo, Coast Guard; telephone 202-372-1205, email James.D.Cavo@uscg.mil.

SUPPLEMENTARY INFORMATION:

Table of Contents for Preamble

I. Abbreviations

II. Basis and Purpose, and Regulatory History

III. Background

IV. Discussion of Comments

V. Discussion of the Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

BLS Bureau of Labor Statistics

CFR Code of Federal Regulations

CG-MMC Coast Guard Office of Merchant Mariner Credentialing

DHS Department of Homeland Security

FR Federal Register

GS General Schedule

GRT Gross register tons

MERPAC Merchant Marine Personnel Advisory Committee

MMC Merchant Mariner Credential

MMLD Merchant Mariner Licensing and Documentation

NAICS North American Industry Classification System

NMC National Maritime Center

NPRM Notice of proposed rulemaking

NVIC Navigation and Vessel Inspection Circular

OMB Office of Management and Budget

OPM Office of Personnel Management

RA Regulatory analysis

SMS Safety management system

§ Section

SME Subject matter expert

STCW Convention International Convention on Standards of Training, Certification and Watchkeeping for Seafarers, 1978, as Amended

STCW Code Seafarer's Training, Certification and Watchkeeping Code, as Amended

TSAC Towing Safety Advisory Committee

U.S.C. United States Code

II. Basis and Purpose, and Regulatory History

The legal basis of this rule is Title 46 of the United States Code (U.S.C.) Section 7101, which authorizes the Secretary of the Department of Homeland Security (DHS) to establish the experience and professional qualifications required for the issuance of Merchant Mariner Credentials (MMCs) with officer endorsements. The DHS Secretary has delegated the rulemaking authority under 46 U.S.C. 7101 to the Coast Guard through DHS Delegation No. 00170.1(II)(92)(e), Revision No. 01.3. Additionally, 14 U.S.C. 102(3) grants the Coast Guard broad authority to promulgate and enforce regulations for the promotion of safety of life and property on waters subject to the jurisdiction of the United States, which includes establishing the experience and professional qualifications required for the issuance of credentials.

The purpose of this rule is to amend title 46 of the Code of Federal Regulations (CFR), section 11.201, paragraph (h)(3) by providing mariners seeking a national officer endorsement as master of towing vessels (limited) ¹ or mate (pilot) ² of towing vessels on inland waters or Western Rivers routes the option of taking a modified basic firefighting course instead of a basic firefighting course. The modified basic firefighting course eliminates training on equipment that is not required to be carried on towing vessels operating on inland waters or Western Rivers.³ Applicants who take the modified basic firefighting course would reduce their costs due to the course being shorter and less expensive than the basic firefighting course. Mariners who will not be working solely on Western Rivers or inland waters other than the Great Lakes will still be required to complete a basic firefighting course. The Coast Guard anticipates this modified basic firefighting course will have a total of 12 hours of classroom and practical training instead of a total of 16 hours for the basic firefighting course.

¹ An endorsement as a master of towing vessels (limited) authorizes service as a master (the person in command of the vessel) to work on a towing vessel in a limited local area within inland waters or Western Rivers (e.g., master of towing vessels (limited) restricted to the Lower Mississippi River mile marker 775.0 to mile marker 850.0).

² “Mate” means a qualified deck officer other than the master. On towing vessels on inland waters or Western Rivers, “pilot” also refers to a qualified deck officer other than the master. The terms “mate” and “pilot” refer to the same position on the vessel and usage varies based on company and regional preference.

³ Throughout this rule, the term modified basic firefighting course describes the basic firefighting course required by 46 CFR 11.201(h)(3), modified to eliminate training on equipment that is not required to be carried on towing vessels operating on inland waters or Western Rivers routes.

On September 1, 2021, the Coast Guard published a notice of proposed rulemaking (NPRM) titled “Towing Vessel Firefighting Training” (86 FR 48925), requesting comments on the proposal to revise the training requirements for national MMC endorsements as master of towing vessels (limited) or mate (pilot) of towing vessels on inland waters or Western Rivers routes. A detailed description of the background and discussion of the proposed changes can be found in the NPRM.

III. Background

Coast Guard regulations in 46 CFR part 11, subpart B, contain merchant mariner credentialing requirements for national and International Convention on Standards of Training, Certification and Watchkeeping for Seafarers, 1978, as Amended (STCW Convention) officer endorsements. Currently, the regulations in 46 CFR 11.201(h)(3)(ii) require mariners seeking national officer endorsements as master or mate (pilot) of towing vessels on routes other than oceans ⁴ to complete a Coast Guard-approved firefighting course that meets the basic firefighting training requirements in Regulation VI/1 of the STCW Convention and Table A-VI/1-2 ⁵ of the Seafarer's Training, Certification and Watchkeeping Code, as Amended (STCW Code). Basic firefighting training ensures that mariners have the skills to contain small fires before they can spread, leading to injury, death, property damage, or becoming a larger marine hazard.

⁴ For the purposes of this final rule, we refer to “routes other than oceans” as near-coastal, Great Lakes, inland waters, and Western Rivers.

⁵ Regulation VI/1 of the STCW Convention and Table A-VI/1-2 of the STCW Code provides the competence requirements for basic firefighting.

Federal Advisory Committee Recommendations

The Coast Guard received requests from industry to review the appropriateness of the basic firefighting training requirement for towing vessel endorsements. As a result, the Coast Guard tasked two Federal Advisory Committees, the Merchant Marine Personnel Advisory Committee (MERPAC) ⁶ and the Towing Safety Advisory Committee (TSAC) ⁷ with reviewing the basic firefighting training requirements, while taking into consideration the equipment carried on towing vessels operating on inland waters and Western Rivers routes.

⁶ See “Merchant Marine Personnel Advisory Committee (MERPAC) Task Statement #95, Inland Firefighting, Draft Report,” September 14, 2016. This report is available at: https://homeport.uscg.mil/Lists/Content/Attachments/709/Enclosure%207%20Task%20Statement%2095%20%20Inland%20Firefighting.pdf. This report was last accessed on April 24, 2023.

⁷ See “Towing Safety Advisory Committee, Task 16-02, Recommendations Regarding Firefighting Training Requirements for Officer Endorsements for Master, Mate (Pilot) of Towing Vessels, Except Assistance Towing and Apprentice Mate (Steersman) of Towing Vessels, Inland Service Final Report,” March 21, 2018. This report is available at: https://homeport.uscg.mil/Lists/Content/Attachments/799/TSAC%20Task%2016-02%20Inland%20Firefighting%20Final-03212018.pdf. This report was last accessed on April 24, 2023.

In their recommendations to the Coast Guard, both MERPAC and TSAC commented that the basic firefighting requirements in § 11.201(h)(3)(ii) are based on equipment found on deep-sea vessels and not on vessels operating on inland waters or Western Rivers. In addition, TSAC identified equipment covered in the basic firefighting training requirements, contained in Table A-VI/1-2 of the STCW Code, that is not required to be carried on towing vessels operating on inland waters or Western Rivers.⁸ They noted that nowhere in 46 CFR subchapter M, “Towing Vessels,” part 142, “Fire Protection,” is there a requirement for towing vessels operating on inland waters or Western Rivers to be equipped with firefighters' outfits or self-contained breathing apparatus (SCBA). Because the basic firefighting training in § 11.201(h)(3)(ii) requires mariners seeking national officer endorsements for master or mate (pilot) of towing vessels to become proficient with equipment that is not required to be carried onboard the vessels they intend to operate, MERPAC and TSAC both recommended that the content of firefighting training be modified for these mariners.

⁸ Id. at 7.

Public Input

In 2017, the Coast Guard sought comments on regulations, guidance documents, and interpretative documents that the public believed should be repealed, replaced, or modified.⁹ The Coast Guard received public input from a trade association representing the towing industry regarding the basic firefighting training for endorsements as master or mate (pilot) of towing vessels. The trade association suggested that the training requirement is excessive because the current towing vessel regulations in §§ 27.209 and 142.245 require company provided firefighting instruction and drills. The trade association recommended that the Coast Guard eliminate the basic firefighting training requirement in § 11.201(h)(3)(ii) for national officer endorsements as master or mate (pilot) of towing vessels on inland waters and Western Rivers. The Coast Guard agrees in part with the recommendation from this trade association. Approved firefighting training is necessary, but we agree that these mariners should not have to train using equipment that is not required to be carried aboard the towing vessels on which they will serve.

⁹ See Coast Guard Request for Information entitled, “Evaluation of Existing Coast Guard Regulations, Guidance Documents, Interpretative Documents, and Collections of Information” (82 FR 26632, June 8, 2017). This document is available at: https://www.regulations.gov/document?D=USCG-2017-0480-0001. This website was accessed on April 24, 2023.

With this final rule, applicants seeking national officer endorsements as master of towing vessels (limited) or mate (pilot) of towing vessels on inland waters or Western Rivers will have the option of taking a modified basic firefighting course that excludes training on equipment that is not required to be carried on their vessels.

This change applies to applicants for national MMC endorsements as master of towing vessels (limited) and mate (pilot) of towing vessels on inland waters or Western Rivers routes. Applicants seeking an endorsement as master of towing vessels must have completed firefighting training when they obtain one of the endorsements that are a prerequisite to qualifying for master of towing vessels. The modified basic firefighting training required by § 11.201(h)(3) will have to be approved by the Coast Guard in accordance with the requirements of §§ 10.402 and 10.403. This change will provide an opportunity for training providers to develop a Coast Guard-approved modified basic firefighting course for applicants for national MMC endorsements as master of towing vessels (limited) and mate (pilot) of towing vessels on inland waters or Western Rivers routes.

Delayed Effective Date

The Coast Guard is delaying the effective date of this rule by 180 days. This delay will allow time for training providers to develop a modified basic firefighting course, and for the Coast Guard to evaluate and approve the course.¹⁰ Training providers wishing to obtain approval for a modified basic firefighting course may develop and submit their course for approval before the effective date of this final rule.

¹⁰ Courses are evaluated and approved by the Coast Guard's National Maritime Center (NMC) Mariner Training & Assessment Division, which, from 2018 to 2022, reports a course approval average annual net processing time of approximately 76 days. Course approvals are valid for 5 years, as specified in 46 CFR 10.402(d).

This rule will result in a one-time cost to training providers for developing and submitting requests for original approval of a modified basic firefighting course, and a one-time cost to the Coast Guard for reviewing and approving these courses. Under existing § 10.402(d) and (f), there will be ongoing costs to both the training providers and the Coast Guard every 5 years to request renewal of the course approval.¹¹ Applicants who take a modified basic firefighting course will receive cost savings due to the course being shorter and less expensive than the basic firefighting course.

¹¹ Approved courses are valid for 5 years from the date of Coast Guard approval. Before the course approval expires, the training provider must seek a course approval renewal to continue to offer the course.

IV. Discussion of Comments

The Coast Guard received eight submissions by the public in response to the NPRM published on September 1, 2021. Comments came from towing vessel operators, a national trade association, and individual mariners. The following discussion contains an analysis of comments received. The Coast Guard appreciates all comments on this matter.

Comments in Support of the Proposal

Five commenters agreed that mariners who will serve on towing vessels on inland waters and Western Rivers should not be required to receive training on equipment that is not required to be carried aboard the vessels upon which they will serve. The Coast Guard acknowledges these comments.

Comments Opposed to the Proposal

One commenter opposed the proposed change because a mariner could possibly serve on a vessel that is carrying equipment not required aboard the vessel and would not have received the necessary training in its safe and proper use. To help reduce “loopholes and lapses in training,” the commenter believes the current firefighting training should not be reduced.

The Coast Guard appreciates this concern but disagrees that firefighting training for towing vessels on inland waters or Western Rivers should include training on equipment that is not required to be carried aboard those vessels. Formal training provides mariners with a basic knowledge and understanding of firefighting. This will provide a foundation that can be supplemented with shipboard drills and familiarization to ensure mariners can safely and effectively use the firefighting equipment aboard their vessels. A modified basic firefighting course, supplemented by the familiarization requirements in 46 CFR 15.405 and the training and drill requirements in 46 CFR 27.205 and 142.245, is sufficient to ensure that mariners serving on a vessel carrying equipment that is not required to be aboard the vessel would be able to use the equipment safely and effectively.

Duration of the Modified Basic Firefighting Course

Two commenters agreed that the modified basic firefighting course should be 12 hours in length, or “one full day.” The Coast Guard agrees the course duration should be 12 hours but notes that it will not approve a course that provides 12 hours of training in a single day. A 12-hour modified basic firefighting course will have to be given over 2 days.

Three commenters stated that the modified basic firefighting course should be 8 hours in duration. One commenter noted that a 12-hour course would not be cost effective when travel costs and availability of training providers is considered. One of the commenters also stated that an 8-hour course would be adequate, as crewmembers have participated in ongoing firefighting instruction and drills throughout their careers.

The Coast Guard disagrees with the assessment that an 8-hour course would be adequate. Eight hours is not sufficient to achieve the intended level of competence. In reaching this determination, we reviewed the curricula of several Coast Guard-approved basic firefighting courses, as well as the current edition of the International Maritime Organization's Model Course 1.20, Fire Prevention and Fire Fighting. These courses are each 16 hours in duration. We identified the time spent in these courses using equipment that is not required to be carried on towing vessels operating on inland waters or Western Rivers and determined that a course length of approximately 12 hours was appropriate. In addition, we disagree the duration can be shortened based on a subjective assumption that trainees have participated in drills and instruction during their careers. We do not consider drills to be equivalent to approved training involving live fire and other scenarios that cannot be safely conducted aboard a vessel.

Content of the Modified Basic Firefighting Course

Two commenters stated that the content of the firefighting course should not include equipment that is not required on towing vessels operating on inland waters and Western Rivers (for example, SCBAs and fire suits). The commenters stated that the modified course should focus on fire principles, basic firefighting strategies and tactics, fire risks, use of portable and semi portable fire extinguishers, fire communication-general alarms and detectors, handling and operating fire pumps and hydrants, types and function of fixed firefighting systems, and significant focus on managing a team for handling a fire emergency.

The Coast Guard agrees. The modified basic firefighting course will not include training on equipment that is not required to be carried aboard towing vessels operating on inland waters or Western Rivers. We agree that the training should focus on the use of equipment that is required to be carried, as well as the other factors cited by the commenters.

Alternatives to a Coast Guard-Approved Course

Five commenters stated the Coast Guard should accept company provided training and drills under 46 CFR subchapter M in lieu of requiring completion of a Coast Guard-approved course. The commenters noted this training would be included in, and audited under, the company's safety management system (SMS).

The Coast Guard disagrees. The inclusion of a company provided firefighting training in an SMS would not ensure an adequate review and oversight of the required training. A Coast Guard-approved course for firefighting will ensure the curriculum is reviewed by qualified subject matter experts (SMEs) and follows sound and accepted training methodology. Coast Guard-approved training also entails more focused audits and oversight than if training were provided as a small part of a much larger SMS.

In addition, it is common for mariners to work on different vessels and for different companies. There is a need for the common foundational training that a Coast Guard-approved course provides. A company provided training may supplement, but not replace, approved firefighting training.

Company Provided Courses

One commenter noted that companies should be able to assemble a curriculum and submit it for approval of the course. This curriculum may include in-house trainers or trainers from local fire departments familiar with onboard firefighting tactics and equipment. The Coast Guard agrees. A company may develop and obtain Coast Guard approval for a course that employs facilities and staff from local fire departments.

The same commenter stated that a towing company should be able to assemble a curriculum that meets the expectations, needs, and standards for the course material and have that training curriculum audited as part of their SMS. The Coast Guard agrees in part. We agree that companies may develop their own course and obtain Coast Guard approval. However, we disagree with the suggestion that this training could be audited as part of the company's SMS. When reviewing training, an SMS audit will generally review whether crew members have completed their required training, not the content of the training or its efficacy.

Three commenters suggested that documentation of the appropriate training by the company should be an acceptable proof of training, like what is used to prove sea service “letters of designation” for those who fuel towboats. The Coast Guard disagrees. The modified basic firefighting course should be and audited by or on behalf of the Coast Guard as specified in 46 CFR part 10, subpart D. The audit of approved training will ensure that previously reviewed and approved curricula are adhered to, and are consistent with, sound educational methodology and accepted industry standards and practices.

Firefighting Response by Crews of Towing Vessels on Inland Waters and Western Rivers

Two commenters noted that, unless an onboard fire is readily containable, firefighting is left to trained emergency responders instead of the crew. If a boat's crew uses a fire extinguisher and the fire cannot be contained, they are instructed to get off the vessel once safe harbor is reached.

The Coast Guard disagrees that this strategy is appropriate in all fire emergencies. There may be situations where it is not safe or feasible to secure and abandon the towing vessel awaiting response from shore-based firefighters. The best first response is that provided by the towing vessel's crew, under the direction of a trained officer. A Coast Guard-approved modified basic firefighting course will increase the likelihood that a towing vessel's crew can make an effective first response and extinguish or contain a fire.

One commenter stated that many, if not most, towing vessels on inland waters and Western Rivers are “dinner bucket” boats, and on these vessels, only one officer is aboard, and that individual must remain at the helm to control the vessel. In the event of a fire emergency onboard, they must seek a safe harbor to secure the vessel so that the crew can escape.

The Coast Guard disagrees that this is reason to not require completion of a modified basic firefighting course. The national officer endorsements of master of towing vessels, master of towing vessels (limited), and mate (pilot) of towing vessels do not restrict a mariner to working on a vessel day boat or “dinner bucket” boat that only operates 12 hours per day, and a mariner must be appropriately trained and qualified for all vessels their credential authorizes them to serve upon. In addition, we do not agree that the only response for a day boat or “dinner bucket” boat is to navigate the vessel to a location where the crew can abandon the vessel and call shore-based responders. Regardless of the crew size or the vessel's operating schedule, having officers complete a Coast Guard-approved modified basic firefighting course will increase the likelihood that they can effectively respond in a fire emergency, and can direct the vessel's crew to make an effective first response and extinguish or contain a fire.

V. Discussion of the Rule

Amendments to 46 CFR 11.201(h), Firefighting Certificate

The Coast Guard is amending § 11.201(h), which requires mariners seeking national officer endorsements to present a certificate of completion from a Coast Guard-approved firefighting course.

The Coast Guard amends paragraph (h)(1) by adding language stating that the firefighting certificate of completion must be “relevant to the endorsement being sought.” The Coast Guard is making this change to ensure that mariners are required to provide evidence of completing the appropriate firefighting training for the endorsement they are applying for.

We are also making several changes to paragraph (h)(3), which contains a list of national officer endorsements that require completion of basic firefighting training in accordance with Regulation VI/1 of the STCW Convention and Table A-VI/1-2 of the STCW Code. We modify the start of paragraph (h)(3)(i) by adding “all” in front of “officers” to make it consistent with the terminology used in paragraphs (h)(3)(ii) through (iv). We revise paragraph (h)(3)(ii) to specify the requirements for officer endorsements for master or mate (pilot) of towing vessels, except apprentice mate (steersman) of towing vessels, for service on near-coastal waters. We add new paragraphs (h)(3)(iii) and (h)(3)(iv) to list the specific waters covered by the phrase, “in all services except oceans.” New paragraph (h)(3)(iii) specifies the requirements for officer endorsements for master or mate (pilot) of towing vessels, except apprentice mate (steersman) of towing vessels, for service on the Great Lakes. New paragraph (h)(3)(iv) specifies the requirements for officer endorsements for master or mate (pilot) of towing vessels, except apprentice mate (steersman) of towing vessels, for service on inland waters or Western Rivers.

Mariners seeking a national officer endorsement as master or mate (pilot) of towing vessels authorized for service on near-coastal waters or on the Great Lakes will still need to complete the basic firefighting training referenced in paragraph (h)(3). A modified basic firefighting course is not appropriate for mariners operating on towing vessels on near-coastal waters or on the Great Lakes for two reasons: (1) near-coastal waters and Great Lakes towing vessels may carry the equipment omitted from a modified towing vessel firefighting course, and (2) near-coastal waters and Great Lakes towing vessels operate farther from the shore, where firefighting assistance is not as readily available as it is on inland waters or Western Rivers.

New paragraph (h)(3)(iv)(A) provides mariners the option of completing a modified basic firefighting course for a national officer endorsement as master or mate (pilot) of towing vessels on inland waters or Western Rivers. The course must be a Coast Guard-approved modified basic firefighting course that does not include training on equipment not required to be carried aboard towing vessels for service on inland waters or Western Rivers. When approving a modified course, the Coast Guard will consider the requirements of 46 CFR subchapter M, parts 140 and 142, in determining the content to achieve proficiency in firefighting consistent with the equipment available onboard towing vessels on inland waters or Western Rivers. The Coast Guard anticipates this modified basic firefighting course will have a total of 12 hours of classroom and practical training instead of a total of 16 hours for the basic firefighting course.

Currently, national officer endorsements for towing vessels serving on the Great Lakes and inland waters are issued as one route. In new paragraph (h)(3)(iv)(A), language is added to allow separation of these routes so that a mariner who completes a modified basic firefighting course could be issued an endorsement restricted to inland waters or Western Rivers.

New paragraph (h)(3)(iv)(B) specifies that a mariner who qualifies for an endorsement by completing a modified basic firefighting course will be required to complete the basic firefighting course required in paragraph (h)(3) for an increase in scope ¹² of the endorsement to add a Great Lakes or near-coastal waters route. For an increase in scope to add oceans routes, a mariner will need to complete both the basic firefighting course required in paragraph (h)(3) and the advanced firefighting course required in paragraph (h)(2).

¹² Increase in scope means additional authority added to an existing credential, such as adding a new route or increasing the authorized horsepower or tonnage. (46 CFR 10.107).

Other Changes

In the NPRM, we proposed to change the 46 CFR part 11 authority citation from 14 U.S.C. 503 to 14 U.S.C. 102(3). After publication of the NPRM in the Federal Register, the Coast Guard determined it is still appropriate to reference “14 U.S.C. 503.” Title 14 U.S.C. 503 states: “the [DHS] Secretary may promulgate such regulations and orders as he deems appropriate to carry out the provisions of this title or any other law applicable to the Coast Guard.” We are only making one change to the authority citation for part 11 to refer to change 3 to DHS Delegation number 00170.1.

Section 11.201(l) is revised to allow the Coast Guard to modify training in addition to the service or examination requirements for an endorsement. The change is needed in order to allow for the option of the modified basic firefighting course for a national officer endorsement as master or mate (pilot) of towing vessels on inland waters or Western Rivers routes.

Additionally, we refined our amendatory instructions to the regulatory text that we proposed in the NPRM.

VI. Regulatory Analyses

The Coast Guard received eight comment submissions during the 60-day comment period that ended on November 1, 2021. We received one public comment regarding the travel cost savings associated with the 12-hour modified basic firefighting course implemented by this final rule which we did not analyze for the NPRM. We have since analyzed the travel cost savings associated with the implementation of the 12-hour course and revised the total estimated cost savings for this final rule. Beyond this, the methodology employed in the regulatory analysis is unchanged.

We developed this rule after considering numerous statutes and Executive orders related to rulemaking. Below, we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

The Office of Management and Budget (OMB) has not designated this rule a significant regulatory action under section 3(f) of Executive Order 12866, as amended by Executive Order 14094 (Modernizing Regulatory Review). Accordingly, OMB has not reviewed it. A regulatory analysis (RA) follows.

As discussed earlier in the preamble, this rule provides applicants for an MMC endorsement as master of towing vessels (limited) or mate (pilot) of towing vessels on inland waters or Western Rivers routes the option to take a modified basic firefighting course instead of the basic firefighting course. Specifically, this firefighting course eliminates training on firefighting equipment that is not required to be carried on towing vessels operating on inland waters or Western Rivers routes. Because the modified firefighting course is expected to be shorter in duration and lower in cost than a basic firefighting course, we anticipate eligible mariners will take the modified course.

We estimate that this rule will result in a 10-year net cost savings of $1,301,133, or $185,252 annualized, in 2021 dollars, discounted at 7 percent. The annualized cost savings for mariners is approximately $189,869 in 2021 dollars, discounted at 7 percent. The savings stem from reduced hours spent in training and reduced tuition for firefighting training necessary for an endorsement as master (limited) or mate (pilot) of towing vessels on inland waters or Western Rivers routes.¹³

¹³ Operating on the Great Lakes is treated separately from operating on inland waters or Western Rivers. Routes on the Great Lakes would require the same firefighting training as near-coastal routes.

We estimate that this rule will result in a one-time cost to training providers to develop a modified basic firefighting course and submit the course to the Coast Guard for approval. There will also be a one-time cost to the Government resulting from Coast Guard employees reviewing and approving these new courses. Under existing 46 CFR 10.402(d) and (f), there will be ongoing costs to both the training providers and the Government every 5 years to renew the modified basic firefighting course. We anticipate training providers that offer the modified basic firefighting course to also continue to provide a basic firefighting course, because these courses would serve additional markets.

In the first year, we estimate the costs (in 2021 dollars) to training providers will be $8,738, and the cost to the Government will be $16,669. These costs will not recur after the first year, but there will be ongoing costs for renewal of course approvals every 5 years, resulting in costs to training providers of $1,047 and costs to the Government of $11,981. The 10-year net cost savings will be $1,301,133, or $185,252 annualized, in 2021 dollars, discounted at 7 percent. We do not estimate that there will be any reduction in safety or benefits between the current basic firefighting training and a modified firefighting training, as the modified training would be better suited for the equipment common to the relevant towing vessels. Table 1 summarizes these results. In the following subsections, we describe the changes, the affected population, the potential costs, the potential cost savings, and the qualitative benefits in further detail.

Table 1—Summary of the Rulemaking Impact
Category | Summary
Applicability | Update title 46 CFR part 11 to permit a modified basic firefighting course for national endorsements as master and mate (pilot) of towing vessels on inland waters or Western Rivers routes.
Affected Population | An estimated 23 training providers and 485 applicants for master (limited) or mate (pilot) towing vessels will take a modified firefighting course to qualify for their endorsement. This is a one-time training requirement for mariners.
Costs to Training Providers ($, 7% discount rate) | One-time costs: $8,738 (first year). Recurring costs: $1,047 every 5 years.
Costs to the Government ($, 7% discount rate) | One-time costs: $16,669 (first year). Recurring costs: $11,981 every 5 years.
Cost Savings for Applicants ($, 7% discount rate) | 10-year: $1,333,558. Annualized: $189,869.
Qualitative Benefits | Firefighting courses that are more tailored to the credential endorsement.

Changes From NPRM to Final Rule

In addition to population data updates that create small increases in the cost savings reported in the final rule, the Coast Guard also identified previously unrealized cost savings in the NPRM that are now being realized in the final rule. We derive our newly realized cost savings from an analysis of travel costs associated with the 12-hour modified basic firefighting course. One commenter to the NPRM believes that a 12-hour course would not be cost effective when travel costs are considered. In an examination of travel cost savings, we determined that the 12-hour course established by this rule will also create travel cost savings that were previously unrealized in the NPRM. See Appendix A: Analysis of Cost Savings Associated with Public Comment Alternatives (section 3.2, 3.3, and 3.4) in the docket for a detailed analysis of these additional cost savings, as well as an examination of the cost savings associated with an 8-hour modified course as proposed by public commenters.

Furthermore, the Coast Guard is delaying the effective date of the final rule by 180 days to allow time for training providers to develop, and the Coast Guard to approve, the new modified basic firefighting course. Table 2 summarizes this and other changes from the NPRM to the final rule.

Table 2—Summary of Changes From NPRM to Final Rule
Element of the analysis | NPRM | Final rule | Resulting change in RA
Master (Limited) and Mate (Pilot) Applicant Data | Calculated 440 inland and Western Rivers master (limited) and mate (pilot) applicants on average from 2016-2019 data | Calculated 485 inland and Western Rivers master (limited) and mate (pilot) applicants on average from updated 2016-2019 data ¹⁴ | This increase in number of affected applicants will lead to increased total and annualized cost savings.
Inland Waters and Western Rivers Towing Vessel Data | 1,265 total towing vessels. 900 of 1,265 towing vessels operating on the Great Lakes, inland waters, or Western Rivers. 5 percent, or 45 vessels, listed as operating on the Great Lakes, meaning 95 percent, or 855 vessels, employ mariners eligible to take the modified basic firefighting course | 5,013 total towing vessels. 3,552 of 5,013 towing vessels operating on the Great Lakes, inland waters, or Western Rivers. 5 percent, or 169 vessels, listed as operating on the Great Lakes, meaning 95 percent, or 3,383 vessels, employ mariners eligible to take the modified basic firefighting course ¹⁵ | This does not create a change in the number of affected master (limited) and mate (pilot) applicants each year due to a consistent percentage of inland waters and Western Rivers towing vessels from the total population.
Cost Savings Associated with a 12-hour Modified Basic Firefighting Training Course | Cost savings resulting from reduced tuition and course time | Cost savings resulting from reduced tuition, course time, and a reduction in travel expenses for applicants driving to and lodging near a training provider | We report additional annualized undiscounted cost savings by including previously unrealized cost savings for applicants who would drive and lodge near a training provider.¹⁶
Delayed Effective Date of Rule | No delay in effective date of rule | Effective date of rule delayed by 180 days to allow time for training providers to develop and Coast Guard to approve new modified basic firefighting courses | This change does not impact our cost savings estimates. In this final rule, we are delaying the rule by 180 days to help accommodate the time needed to develop and approve the courses, but we do not anticipate courses will be readily available for the affected population of mariners within the first year of analysis, which is consistent with our assumption in the NPRM.

Description of Regulatory Changes

This rule results in two changes that have potential costs and potential cost savings. First, training providers will have the opportunity to develop a modified firefighting course and submit the course to the Coast Guard for approval. Consequently, this rule will initially result in costs to training providers for developing the course, and to the Federal Government for reviewing and approving the modified basic firefighting course. Second, applicants will likely experience cost savings by taking a shorter and less costly modified basic firefighting course rather than the longer basic firefighting course.

¹⁴ This increase in the number of inland waters and Western Rivers master (limited) and mate (pilot) applicants was caused by historical data changes within the Merchant Mariner Licensing and Documentation (MMLD) database. These changes are often attributed to an issued credential being postdated, or a credential being withdrawn or voided. Such changes cause credentials to be included or not included in historical counts, leading to variations in data when being examined at different times.

¹⁵ On June 20, 2016, the Coast Guard published the “Inspection of Towing Vessels” final rule. (81 FR 40003) That rule had an effective date of July 20, 2016. See https://www.federalregister.gov/documents/2016/06/20/2016-12857/inspection-of-towing-vessels. This final rule document was last accessed on April 24, 2023. The rule required towing vessels to be inspected under subchapter M and gave a 5-year implementation period. When we obtained data on inspected towing vessels for the NPRM, many of the towing vessels were not inspected. Now almost all towing vessels are inspected, making our 1,265 total inspected towing vessels from the NPRM an underestimate. We are now including the full population of inspected subchapter M vessels.

¹⁶ See Appendix A for a detailed analysis of the cost savings from reduced travel expenses associated with the 12-hour modified basic firefighting course.

Table 3 lists and describes the changes to 46 CFR part 11, subpart B. The changes contain costs and cost savings, as described above. Text that has been added is italicized, and text that has been deleted is stricken through.

Table 3—Summary of Changes to 46 CFR Part 11 Subpart B and Impacts
Section | Changes in regulatory text | Description of change | Impact
11.201(h)(1) | Applicants for an original officer endorsement in the following categories must present a certificate of completion from a firefighting course of instruction relevant to the endorsement being sought that has been approved by the Coast Guard. The firefighting course must have been completed within the past 5 years, or if it was completed more than 5 years before the date of application, the applicant must provide evidence of maintaining the standard of competence in accordance with the firefighting requirements for the credential sought | This editorial change makes it clear that the required firefighting training should be based on the operating route of the endorsement sought | This editorial change will not have any substantive impact and therefore will not impose any costs or cost savings.
11.201(h)(2)(i) | All national officer endorsements as master or mate on seagoing vessels of 200 gross register tons (GRT) or more | This editorial change makes the text easier to read and makes it consistent with other lines in this section | This editorial change will not have any substantive impact and therefore will not impose any costs or cost savings.
11.201(h)(3)(i) | All officer endorsements as master on vessels of less than 500 gross tonnage (GT) in ocean service | This editorial change makes the text easier to read and makes it consistent with other lines in this section | This editorial change will not have any substantive impact and therefore will not impose any costs or cost savings.
11.201(h)(3)(ii) | All officer endorsements for master or mate (pilot) of towing vessels for service on near-coastal waters, except apprentice mate (steersman) of towing vessels | This editorial change makes it clear that applicants for master or mate (pilot) of towing vessel endorsements on near-coastal waters must take a basic firefighting course | This editorial change will not have any substantive impact because these applicants were already required to take a basic firefighting course.
11.201(h)(3)(iii) | (iii) All officer endorsements for master or mate (pilot) of towing vessels for service on Great Lakes, except apprentice mate (steersman) of towing vessels | This editorial change makes it clear that applicants for master or mate (pilot) of towing vessel endorsements on Great Lakes must take a basic firefighting course | This editorial change will not have any substantive impact because these applicants were already required to take a basic firefighting course.
11.201(h)(3)(iv) | (iv) All officer endorsements as master or mate (pilot) of towing vessels for service on inland waters or Western Rivers, except apprentice mate (steersman) of towing vessels | This editorial change makes it clear that applicants for master or mate (pilot) of towing vessel endorsements on inland waters or Western Rivers routes must take a basic firefighting course | This editorial change will not have any substantive impact because these applicants were already required to take a basic firefighting course.
11.201(h)(3)(iv)(A) | (A) The Coast Guard will accept a Coast Guard-approved modified basic firefighting course, which is the basic firefighting training described in paragraph (h)(3) of this section modified to only cover the equipment, fire prevention procedures, and firefighting operations required on towing vessels on inland waters or Western Rivers routes required in 46 CFR parts 140 and 142. A mariner who completes this modified course will be issued an endorsement that is restricted to inland waters or Western Rivers | These changes permit master or mate (pilot) applicants operating exclusively on inland waters or Western Rivers routes, other than the Great Lakes, to take a modified basic inland waters and Western Rivers towing vessel firefighting course as opposed to basic firefighting course when they apply for endorsements on inland waters or Western Rivers | This will lead to costs and costs savings. Costs result from training providers developing a modified firefighting course and submitting the course to the Coast Guard for approval, which will cost an estimated $8,738 to the training providers and an estimated $16,669 to the government for review and approval of the course in the first year. Training providers will need to seek a renewal of their course approval in year 6, resulting in $1,047 in costs to training providers and $11,981 in costs to the Coast Guard. Estimated cost savings will come from applicants for towing vessel master (limited) or mate (pilot) endorsements spending fewer hours in training and less money on tuition and travel, resulting in an estimated $189,869 in annual cost savings discounted at 7% in 2021 dollars.
11.201(h)(3)(iv)(B) | (B) To increase in scope to Great Lakes, near-coastal or oceans, the applicant will be required to complete the firefighting course appropriate to the route sought | This change is a rewording of existing § 11.201(h)(4) to make the text of § 11.201(h) easier to read | While this new clause is a restatement of the requirements currently existing in § 11.201(h)(4), there could be a cost impact because mariners could apply for an endorsement for inland waters or Western Rivers with a modified basic inland waters and Western Rivers towing vessel firefighting course approved under 11.201(h)(3)(iv)(A), and later request an increase in scope to Great Lakes requiring the mariner to complete a basic firefighting course. Because the mariner would need to take the basic firefighting course, they would spend approximately $552.54 on the tuition for the course. Additionally, they would spend 16 hours taking the course, and the travel time to get to and from the course. However, the Coast Guard cannot forecast who would seek an increase in scope or how frequently this would occur.¹⁷
11.201(l) | (l) Restrictions. The Coast Guard may modify the service, training, and examination requirements in this part to satisfy the unique qualification requirements of an applicant or distinct group of mariners. The Coast Guard may also lower the age requirement for OUPV applicants. The authority granted by an officer endorsement will be restricted to reflect any modifications made under the authority of this paragraph | The addition of the word “training” in this paragraph allows the Coast Guard to modify the training requirements based on the unique qualification requirements of a group of mariners, which we have not previously done | Without the addition of the word “training”, the Coast Guard will not be able to modify training requirements for specific groups of mariners based on their unique qualifications, and the cost savings will not be attainable. The addition also permits the Coast Guard, in the future, to modify training requirements for other specific groups of mariners. We do not intend to modify other training requirements at this time. As such, we do not estimate any costs or cost savings from this change.

Affected Population

¹⁷ Coast Guard does not have data to forecast the number of mariners who will seek an increase in scope in the future. Additionally, we did not receive any additional information from the public comments that would aid in our ability to forecast.

This rule has two affected populations: (1) training providers who would offer a modified basic firefighting course; and (2) applicants for MMC endorsements as a master of towing vessels (limited) or mate (pilot) of towing vessels on inland waters or Western Rivers routes. We first estimate the number of training providers who may submit a modified basic firefighting course to the Coast Guard for approval, and then estimate the number of applicants who may apply for an endorsement as master of towing vessels (limited) or mate (pilot) of towing vessels operating on inland waters or Western Rivers.

The Coast Guard does not know how many training providers will request approval for a modified basic firefighting course. However, since this course will be a modified form of the basic firefighting course, we assume that only training providers who already teach a basic firefighting course will take advantage of the opportunity provided by this proposal. Currently, there are 91 training providers approved to offer a basic firefighting course.¹⁸ Historically, the number of training providers does not significantly change on an annual basis. Therefore, we expect that the training providers who will offer a modified firefighting course will be from these 91 training providers.

¹⁸ https://www.dco.uscg.mil/Portals/9/NMC/pdfs/courses/courses.pdf lists all courses approved by the Coast Guard. There are 91 training providers approved to offer basic firefighting courses.

An SME from the Coast Guard's Office of Merchant Mariner Credentialing (CG-MMC) with extensive experience, involving regular contact with maritime training providers and towing vessel operating companies, reviewed publicly available materials from these 91 providers and rated each on how likely they would be to request approval of a modified basic firefighting course. The SME considered the types of courses offered by each provider, their facilities, geographic location(s), and the segment of the industry their clientele work in. The SME then rated each training provider as either 0 percent, 25 percent, 50 percent, 75 percent, or 100 percent likely to request approval of a modified basic firefighting course. Across the 91 training providers with an approved basic firefighting course, 56 of them were rated as having no likelihood of requesting approval to offer a modified firefighting course because the SME's review indicated that they are unlikely to serve the inland towing population. Among the remaining 35 providers, the SME estimated that the average likelihood to request approval and offer a modified basic firefighting course would be 65 percent. Multiplying 35 by 65 percent yields 23, rounded, or our estimate for the number of training providers likely to offer a modified firefighting course.

Applicants for a national officer endorsement as master of towing vessels (limited) or mate (pilot) of towing vessels on inland water or Western Rivers who take a modified course will realize a cost savings by taking a shorter, less expensive firefighting course. As discussed in Section IV, Background, of the published NPRM associated with this final rule,¹⁹ the Coast Guard issued a final rule in 2013 requiring mariners seeking national officer endorsements as master or mate (pilot) of towing vessels on routes other than oceans to complete a Coast Guard-approved basic firefighting course.²⁰ Prior to the 2013 final rule, only masters and mates (pilots) of towing vessels serving on an ocean route were required to complete firefighting training.

¹⁹ See Section IV, Background, of the NPRM titled, “Towing Vessel Firefighting Training” (86 FR 48925, September 1, 2021. To view the NPRM, go to www.regulations.gov, type USCG 2020-0492 in the search box, and click “Search.” Next click on the “Browse Documents” tab. Then, click on proposed rule document. This website was last accessed on April 6, 2023.

²⁰ See final rule titled, “Implementation of the Amendments to the International Convention on Standards of Training, Certification and Watchkeeping for Seafarers, 1978, and Changes to National Endorsements” (78 FR 77796, December 24, 2013).

Grandfathered Population

This rule will affect applicants for endorsements of inland master of towing vessels (limited) if they do not have a prior endorsement as a mate (pilot) that required a firefighting course. The 2013 final rule established grandfathering provisions for which the Coast Guard provided guidance in Navigation and Vessel Inspection Circular (NVIC) 03-16, titled “Guidelines for Credentialing Officers of Towing Vessels.” ²¹ As described in Enclosure 10 of NVIC 03-16, the Coast Guard grandfathered mariners applying for an original MMC endorsed as master or mate (pilot) of towing vessels on non-oceans routes who began sea service prior to March 24, 2014 and submitted an application prior to March 24, 2019. The grandfathering provisions established that applicants for original master or mate (pilot) endorsements on non-oceans routes prior to March 24, 2019, were not required to take a firefighting course.²²

²¹ Current Coast Guard NVICs can be found at: https://www.dco.uscg.mil/Our-Organization/NVIC/Year/2010/. (On this site “click on “NVIC 03-16.” This website was last accessed on April 24, 2023.) NVIC 03-16 was updated in September 2020, and the discussion about grandfathering was removed because the grandfathering period had expired. The original NVIC was published June 23, 2016, and can be found here: https://www.regulations.gov/document/USCG-2016-0611-0001. This website was last accessed on April 24, 2023.

²² Coast Guard SMEs estimate that nearly all master or mate (pilot) applicants would have begun sea service prior to March 24, 2014.

Mariners raising the grade of their MMC endorsement from mate (pilot) to master of towing vessels were also grandfathered in under NVIC 03-16 and were not required to take a firefighting course. As a result of the grandfathering provisions, this rule will be applicable to new applicants for master of towing vessels (limited) or mate (pilot) of towing vessels endorsements.

In order to qualify for an MMC endorsement as master of towing vessels, other than master of towing vessels (limited), an applicant must have prior sea service experience as either a mate (pilot) of towing vessels or a master of vessels greater than 200 GRT. Holding the endorsement authorizing service in either of these capacities would have required the applicant to either take a firefighting course or be grandfathered in under NVIC 03-16. As a result, this rule does not impact applicants for an endorsement as master of towing vessels other than master of towing vessels (limited).

Masters of towing vessels (limited) do not require prior sea service as a master or mate of vessels greater than 200 GRT. Therefore, this rule will affect applicants for endorsements of inland master of towing vessels (limited) if they do not have a prior endorsement as a mate (pilot) that required a firefighting course. Two towing vessel endorsement applicant groups are thus affected by this rule: (1) mate (pilot) of towing vessels, and (2) master of towing vessels (limited) with no prior endorsement as a mate (pilot).

Affected Population of New Applicants

The Coast Guard's National Maritime Center (NMC) issues MMCs to applicants who meet the regulatory requirements for endorsements described in 46 CFR parts 11, 12, and 13. Applicants for endorsements as master and mate (pilot) of towing vessels may be endorsed to operate on oceans, near coastal, Great Lakes and inland waters, or Western Rivers routes.

The MMLD database is used by the NMC to issue MMCs and maintain records of U.S. merchant mariners. Data was obtained from the MMLD, for the period between 2015-2022, on each issuance of an original master or mate (pilot) of towing vessel endorsement, including when the endorsement was issued, and the authorized routes of operation. We excluded applicants for Great Lakes, near-coastal, or oceans routes, because applicants for endorsements on those routes are required to complete basic firefighting and will not be affected by the rule. Currently, Great Lakes and inland waters are issued as one route for towing vessel endorsements. With this rule, language is added to allow the separation of these two routes so that a mariner who completes the modified basic firefighting course could be issued an endorsement valid for inland waters or Western Rivers. Because towing vessel endorsements are currently issued for Great Lakes and inland routes, the Coast Guard cannot directly estimate from the MMLD data the number of masters and mates (pilots) of towing vessels operating exclusively on inland waters. However, we can estimate the number of towing vessels that operate on these waters based on data from towing vessel inspection records.

As of 2023, 5,013 towing vessels have been inspected under 46 CFR subchapter M.²³ When vessels are inspected, they must declare their operating route, which may include the Great Lakes, inland waters and Western Rivers.

²³ These data were retrieved from the Coast Guard's Marine Information for Safety and Law Enforcement (MISLE) database in February 2023. Title 46 CFR subchapter M requires all towing vessels greater than 26 feet and those that transport hazardous materials to be inspected.

In order to isolate the vessels operating on the Great Lakes, we first reviewed the number of vessels that operate on the Great Lakes, inland waters, or Western Rivers, and then examined the number of vessels that list the Great Lakes as at least one of their routes. Specifically, out of the 5,013 total towing vessels inspected under 46 CFR subchapter M, 3,552 are recorded as one or more of the following routes: Great Lakes, inland waters, or Western Rivers. Of the 3,552 vessels, 169, or 5 percent, rounded (169 ÷ 3,552 = 0.048), include the Great Lakes as one of their listed routes and, therefore, will require basic firefighting training, since they may operate on the Great Lakes. The remaining 95 percent, or 3,383 vessels, do not include the Great Lakes as one of their listed routes and, therefore, mariners serving on these vessels are eligible to take the modified basic firefighting course.

Table 4 shows the number of endorsements issued from 2016-2019 for master of towing vessels (limited) and mate (pilot) of towing vessels, respectively, endorsed to operate on the Great Lakes, inland waters, or Western Rivers routes.²⁴ While we have data on the number of endorsements issued in 2020 and 2021, we intentionally exclude 2020 and 2021 when calculating the average number of master (limited) and mate (pilot) towing vessel endorsements each year because of the impact of the COVID-19 pandemic on all facets of the U.S. economy. Therefore, we do not believe the number of endorsements issued in 2020 and 2021 represents a typical year, and many individuals who might ordinarily have pursued an endorsement did not because of the general slowdown in business associated with the pandemic. On average, between 2016 and 2019, the Coast Guard issued 16 master of towing vessels (limited) and 495 mate (pilot) of towing vessels endorsements per year, for a total of 511 new endorsements per year on Great Lakes, inland waters, and/or Western Rivers routes.

²⁴ Endorsement data for 2022 are currently incomplete; therefore, they are not included in our analysis.

Table 4—Estimated Number of New Great Lakes, Western Rivers, and/or Inland Waters Mate (Pilot) and Masters (Limited) Endorsements Issued per Year * ²⁵
Year | Mate (pilot) applicants | Master (limited) with no mate (pilot) endorsement
2016 | 615 | 19
2017 | 530 | 17
2018 | 423 | 15
2019 | 410 | 11
Average | 495 | 16
* Numbers may not add due to rounding.

As seen in table 4, the number of individuals applying for an endorsement as mate (pilot) of towing vessels has been declining. The Coast Guard does not know specifically why fewer individuals have applied for an endorsement as mate (pilot) of towing vessels. It may be associated with grandfathering provisions provided in the 2013 final rule, which established grandfathering provisions for master and mate (pilot) of towing vessels. The 2013 final rule could have caused applicants for master of towing vessels (limited) and mate (pilot) of towing vessels endorsements to seek an MMC earlier than they may have otherwise, in order to be grandfathered under the existing regulations. Additionally, the introduction of subchapter M in 2016 may have led to a contraction in the industry. In either case, the Coast Guard believes that the current decline has been more severe than fundamentals would suggest, and, carrying forward, we expect the number of applicants to level off. The Coast Guard therefore utilized the 4-year average of the number of new towing vessel mate (pilot) applicants, or 495, and the 4-year average of the number of master (limited), or 16, to estimate that 511 mariners apply to the Coast Guard for endorsements to operate on the Great Lakes, Western Rivers, or inland waters each year.

²⁵ Please see footnote 14 for more information about the why the numbers of inland waters and Western Rivers master (limited) and mate (pilot) applicants have increased from the NPRM.

Applying the percentage of vessels that do not operate on the Great Lakes (95 percent) to the estimated 511 annual new endorsements yields an estimated 485 new endorsements as mate (pilot) of towing vessels or master of towing vessels (limited) operating in inland waters or Western Rivers per year, rounded (511 × 0.95 = 485).

Costs

The modified basic firefighting course for towing vessels on inland waters and Western Rivers will be a modified version of the basic firefighting course. Mariners are required to take a basic firefighting course, and this final rule permits some mariners to take the modified basic firefighting course in lieu of the basic firefighting course. As such, this rule presents no additional costs to mariners who will continue to operate on inland waters and Western Rivers.

Before mariners could save hours spent in training and tuition for a basic firefighting course, by taking a modified basic firefighting course, training providers will first need to obtain Coast Guard approval for the modified basic firefighting course. training providers submit course approval requests to the NMC in accordance with the requirements of 46 CFR, part 10, subpart D. The NMC then evaluates the course to ensure the content demonstrates comprehensive coverage of the firefighting knowledge and competency requirements of the training. If the course submission does not require edits or revisions, and is approved as submitted, the Coast Guard estimates that it would take a training specialist at a training provider 6 hours to develop and submit a request for course approval of a modified basic firefighting course.²⁶

²⁶ Information provided by an SME from the Coast Guard's NMC.

We used the Bureau of Labor Statistics' (BLS) Occupational Employment Statistics National-Industry-Specific Occupational Employment and Wage Estimates for May 2021 “Training and Development Specialists” category to estimate the wages for the employees who would prepare and submit the course for Coast Guard approval, as these employees “design and conduct training and development programs to improve individual and organization performance.” ²⁷ The BLS estimates a training and development specialist's mean hourly wages at $32.51. We apply a load factor to account for non-wage compensation and benefits, resulting in a fully loaded hourly wage of $45.51.²⁸

²⁷ https://www.bls.gov/oes/2021/may/oes131151.htm. This website was accessed on April 24, 2023.

²⁸ Data on the employer cost of compensation was sourced from the “Employer Costs for Employee Compensation” one screen data search. We searched for both the total compensation and the wages and salaries of private industry workers in the “Educational Services Industry” yielding BLS series CMU2016100000000D for total compensation and series CMU2026100000000D for wages. To derive the cost of compensation per hour worked, the Coast Guard first took the average of the four quarters of total compensation or $49.86 and the average of the four quarters of wages and salaries of $36.01, rounded. We then divided the total compensation amount of $49.86 by the wage and salary amount of $36.01 to obtain the load factor of about 1.4 for “Educational Services” occupations, rounded (49.86 divided by 36.01 equals 1.4, rounded). To load the wage, the Coast Guard multiplied the estimated hourly wage of $32.51 by the loaded wage factor of 1.4 yielding $45.51, rounded, which accounts for the total cost of compensation per hour of work (32.51 multiplied by 1.4 equals 45.51).

If the submission does not require a request for additional information to supplement the course approval request, the Coast Guard estimates that a federal government employee, at a grade level of a General Schedule (GS)-7, will require 1 hour to process the receipt of the course approval submission. One federal employee, at a grade level of a GS-13, will spend 4 hours evaluating the course approval request; another federal employee, at a grade level of GS-13, will spend 0.5 hours reviewing the course; and a fourth federal employee, also at a grade level of GS-13, will spend 0.5 hours conducting a final review of the course. In total, the Coast Guard will spend 1 hour of GS-7 time and 5 hours of GS-13 time per course approval request if the submission does not require a request for additional information to supplement the course approval request.

The impacted employees work in the Washington-Baltimore-Arlington, DC-MD-VA-WV-PA, area. The Office of Personnel Management (OPM) lists the hourly pay for federal employees in the Washington, DC area according to the Washington, DC GS pay tables.²⁹ We estimate that the impacted employees will, on average, be at a step 5 pay, because that is the midpoint of the pay band. The OPM records the hourly pay of GS-7, step 5 employees as $26.69, and records the hourly pay of GS-13, step 5 employees as $56.31. These wages are not fully loaded, meaning they do not account for associated benefits.

²⁹ https://www.opm.gov/policy-data-oversight/pay-leave/salaries-wages/salary-tables/21Tables/html/DCB_h.aspx. This website was last accessed on April 24, 2023.

To account for the value of benefits to government employees, we first calculate the share of total compensation of federal employees accounted for by wages. The Congressional Budget Office (2017) reports total compensation to federal employees as $64.80 per hour and wages as $38.30.³⁰ This implies that total compensation is 1.69 times the average wages ($64.80 ÷ $38.30 = 1.69). We can, therefore, calculate the fully loaded wage rate for the GS-7 and GS-13 hourly wage rates by multiplying by 1.69, yielding $45.11 and $95.16, respectively.

³⁰ Congressional Budget Office (2017), “Comparing the Compensation of Federal and Private-Sector Employees, 2011 to 2015,” https://www.cbo.gov/system/files/115th-congress-2017-2018/reports/52637-federalprivatepay.pdf. This document was last accessed on April 24, 2023.

All 23 training providers that may offer a modified basic firefighting course must submit a course approval request to the Coast Guard for evaluation. We estimate the costs of this initial submission to industry and the Coast Guard as shown in table 5.

Table 5—Costs Due to Initial Course Approval Applications
| Employee type | Fully loaded wage | Number of training providers | Hours | Total cost
|  | [A] | [B] | [C] | [A * B * C]
Training Provider Cost | Training Specialist | 45.51 | 23 | 6 | $6,280
Government Cost | GS-7 | 45.11 | 23 | 1 | 1,038
Government Cost | GS-13 | 95.16 | 23 | 5 | 10,943
Total Government Cost |  |  |  |  | 11,981
Total Cost |  |  |  |  | 18,261

It is common for training providers to submit insufficient supporting information with a course approval request to the Coast Guard. When this occurs, the Coast Guard requests additional information from the training provider. We reviewed NMC data on new course approval submissions over 5 years (2018-2022) to determine how likely it is for a training provider to submit a course approval request without the Coast Guard requesting additional information. We reviewed NMC data on the total number of course approval applications received and the number of course approval applications that require additional information such as edits and revisions (see table 6). We estimate that training providers provide incomplete information in their application packet 38 percent of the time.

Table 6—Course Approval Requests Received With Insufficient Information
Year | Course approval requests received | Course approval requests received with insufficient information | Percent of course approval requests with insufficient information
| [A] | [B] | [B ÷ A]
2018 | 944 | 362 | 38
2019 | 768 | 335 | 44
2020 | 699 | 199 | 28
2021 | 751 | 182 | 24
2022 | 655 | 362 | 55
Total | 3,817 | 1,440 | 38

When training providers submit a course approval request with incomplete information, the Coast Guard will request that the training providers revise their course request and resubmit. The Coast Guard estimates that both the training provider and the Coast Guard will spend an equal number of hours on each resubmittal as they would on the initial submission. In other words, the training provider will spend 6 hours on an initial approval request and 6 hours on the resubmittal, for 12 hours total, and the Coast Guard will spend 1 GS-7 hour and 5 GS-13 hours on the initial request, and 1 GS-7 hour and 5 GS-13 hours on the resubmittal, for 2 GS-7 hours and 10 GS-13 hours total.³¹

³¹ Information provided by an SME from the Coast Guard's NMC.

Thus, the Coast Guard estimates that 38 percent of the training providers, or 9 training providers (23 × 0.38 = 9), will submit the request for course approval with incomplete information, requiring a second submission taking 6 hours to prepare for submission to the Coast Guard. Similarly, the Federal Government will spend an additional 1 hour at grade level GS-7 and 5 hours at grade level GS-13 to review the information resubmitted for the course approval request. We estimate the costs of modified firefighting course approvals resubmissions as shown in table 7.

Table 7—Summary of Resubmission Costs for Modified Firefighting Training Courses
| Employee type | Hourly burdened wage | Number of training providers | Average hours | Total cost ³²
|  | [A] | [B] | [C] | [A * B * C]
Training Provider Cost | Training Specialist | $45.51 | 9 | 6 | $2,458
Government Cost | GS-7 | 45.11 | 9 | 1 | 406
Government Cost | GS-13 | 95.16 | 9 | 5 | 4,282
Total Government Cost |  |  |  |  | 4,688
Total Cost |  |  |  |  | $7,146

We estimate the total costs to training providers from initial applications and any resubmissions to be approximately $8,738 ($6,280 + $2,458), and the total costs to government to be approximately $16,669 ($11,981 + $4,688). Together, we estimate the one-time costs of evaluating approval requests for the modified basic firefighting courses to be $8,738 + $16,669, or $25,407 during the first year of implementation.

³² Numbers may not add due to rounding.

As discussed above, Coast Guard course approvals are valid for 5 years, and training providers must seek a renewal every 5 years to continue to offer the course. This course renewal will include a submission similar to that initially provided to and approved by the Coast Guard. Since the Coast Guard will have previously reviewed and approved the course submission, the Coast Guard estimates that it would take training providers less time to prepare all materials for the Coast Guard. Specifically, we estimate that the same training specialist who spent 6 hours on an initial course approval request will spend 1 hour on a renewal request, and the renewal request will be submitted without any revisions.³³ We further estimate that all 23 providers will submit a request for renewal of a course approval, because, based on a review of previous course approval renewals, we do not expect a turnover in training providers. The Coast Guard, however, will spend the same amount of time reviewing the renewal requests as it spent with the initial approval request to ensure that the course still meets regulatory requirements, or 1 hour of GS-7 time and 5 hours of GS-13 time.

³³ According to SMEs from the Coast Guard's Office of Merchant Mariner Credentialing.

These costs will occur 5 years after each approval, or in year 6. We estimate the course renewal costs as shown in table 8. The 10-year distribution of undiscounted and discounted costs from both the initial and renewal requests are recorded in table 9.

Table 8—Course Renewal Submission Cost
| Employee type | Burdened wage | Number of training providers | Hours | Total cost
|  | [A] | [B] | [C] | [A * B * C]
Training Provider Cost | Training Specialist | 45.51 | 23 | 1 | $1,047
Government Cost | GS-7 | 45.11 | 23 | 1 | 1,038
Government Cost | GS-13 | 95.16 | 23 | 5 | 10,943
Total Government Cost |  |  |  |  | 11,981
Total Cost |  |  |  |  | 13,028

Table 9—Discounted Costs Over a 10-Year Period of Analysis in 2021 Dollars Discounted at 7% and 3%
Year | Undiscounted costs | Discounted costs: 7% | Discounted costs: 3%
1 | $25,407 | $23,745 | $24,667
2 | 0 | 0 | 0
3 | 0 | 0 | 0
4 | 0 | 0 | 0
5 | 0 | 0 | 0
6 | 13,028 | 8,681 | 10,911
7 | 0 | 0 | 0
8 | 0 | 0 | 0
9 | 0 | 0 | 0
10 | 0 | 0 | 0
Total | 38,435 | 32,426 | 35,577
Annualized |  | 4,617 | 4,171

Benefits

The primary benefits of the rule come from the cost savings to mariners in terms of reduced time spent in training and in reduced tuition. The modified course content will eliminate the requirement for training using certain firefighting equipment that is not required to be carried on towing vessels operating on inland waters or Western Rivers. Therefore, the modified basic firefighting course will be shorter, and likely less expensive, than the basic firefighting course. Thus, a mariner will likely prefer to take a modified basic firefighting course instead of a basic firefighting course. Some mariners may prefer to take the basic firefighting course if they are considering the possibility of working on the Great Lakes, near coastal waters, or ocean routes in the future. However, we do not have data to forecast how many of these mariners might opt, in the future, to take the basic firefighting course when they apply for the endorsement as master (limited) of towing vessels or mate (pilot) of towing vessels on inland waters or Western Rivers. Because the modified basic firefighting course will be shorter, less expensive, and located in the same area as the basic firefighting course, and because only a small portion of mariners operate in the Great Lakes (5 percent), and we already account for them, we assume all mariners eligible to take a modified basic firefighting course will do so.

The basic firefighting training costs $552.54, on average, and lasts 16 hours.³⁴ The Coast Guard estimates that the modified basic firefighting course will be 4 hours shorter than the current 16-hour basic firefighting course. For the purposes of our analysis, we assume the modified basic firefighting course will be less expensive than the basic firefighting course, because it will require fewer resources to host, result in less wear and tear on the facility, and require fewer hours of an instructor's time. As a result, we assume that tuition will decline proportionally with course length.

³⁴ Data on the price of firefighting training was only publicly available for 24 of the 91 approved training providers. Some of the training providers are private companies that train their own employees, some are in schools like the U.S. Merchant Marine Academy that teach basic firefighting to their own midshipmen but do not separate out the training, and others do not appear to offer basic firefighting training despite having an approval permitting them to teach it.

In the affected population section, we estimate that 485 individuals will apply for an MMC endorsement as master of towing vessels (limited) or mate (pilot) of towing vessels on inland waters or Western Rivers each year and will be eligible to take the modified basic firefighting course in lieu of the basic firefighting course. Therefore, these applicants will save 4 hours of their time and the difference in costs between the basic firefighting tuition and the modified basic firefighting course tuition.

The Coast Guard estimates that these 485 applicants will be mariners who hold an MMC endorsement as apprentice mate (steersman), which is a position between ordinary seaman and mate. The BLS does not have a labor category for apprentice mate (steersman); however, the BLS Occupational Employment Statistics National-Industry-Specific Occupational Employment and Wage Estimates for May 2021 lists the mean hourly wages for both “Captains, Mates, and Pilots of Water Vessels” and “Sailors and Marine Oilers.” ³⁵ As an apprentice mate (steersman) is a position between ordinary seaman and mate, we derive their wages by taking a weighted average mean hourly wage of both “Captains, Mates, and Pilots of Water Vessels” and “Sailors and Marine Oilers” operating in the “Inland Water Transportation” industry. We take a weighted average because the duties and responsibilities of an apprentice mate (steersman) are more like that of sailor than of a mate. Consequently, we rate the sailor's wage more heavily than we weight the mate's wage. Specifically, we estimate the mean hourly wage of an apprentice mate (steersman) by taking one-third of the average mate's mean hourly wage ($55.32) and two-thirds of the average sailor's mean hourly wage ($26.44), yielding $36.07 per hour, rounded.³⁶ We then apply a load factor to account for non-wage compensation and benefits, which results in a fully loaded mean hourly wage of $54.11.³⁷ Therefore, we estimate the annual undiscounted cost savings for taking shorter courses to be approximately $104,973 [(485 endorsements × 4 (the number of hours saved) × $54.11 (the burdened wage)].

³⁵ Master and mate rates were accessed on February 8, 2023 from: https://www.bls.gov/oes/2021/may/oes535021.htm#ind. This website was last accessed on April 24, 2023. Sailor and Oiler rates were accessed on February 8, 2023 from: https://www.bls.gov/oes/2021/may/oes535011.htm. This website was last accessed on April 24, 2023. For both rates the hourly mean wage for the “Inland Water Transportation” industry was used as this best approximates the wages of towing vessel masters, mates, and deckhands. The reader can find this wage rate under the “Industry Profile” section of each web page.

³⁶ More specifically, [($55.32 divided by 3) plus ($26.44 multiplied by ⅔)] which equals $36.07.

³⁷ Data on the employer cost of compensation was sourced from the “Employer Costs for Employee Compensation” one screen data search. We searched for both the total compensation and the wages and salaries of private industry workers in the “Transportation and Warehousing Industry” yielding BLS series CMU2014300000000D for total compensation and series CMU2024300000000D for wages. To derive the cost of compensation per hour worked, the Coast Guard first took the average of the four quarters of total compensation or $40.79 and the average of the four quarters of wages and salaries of $26.98, rounded. We then divided the total compensation amount of $40.79 by the wage and salary amount of $26.98 to obtain the load factor of about 1.5 for “Transportation and Warehousing” occupations, rounded ($40.79 divided by $26.98 equals 1.5, rounded). To load the wage, the Coast Guard multiplied the estimated hourly wage of $36.07 by the loaded wage factor of 1.5 yielding $54.11, rounded, which accounts for the total cost of compensation per hour of work ($36.07 multiplied by 1.5 equals $54.11).

Applicants for MMC endorsements as master of towing vessel (limited) and mate (pilot) of towing vessels will also save the difference between the tuition for the less expensive, modified basic firefighting course and the basic firefighting course. If we use the tuition for the basic firefighting course, $552.54, as the cost of 16 hours of firefighting instruction, then 12 hours of instruction would be $414.41, rounded [($552.54 × (12 ÷ 16) = $414.41)]. The cost savings for the modified basic firefighting course due to reduced tuition would be $138.13 ($552.54−$414.41 = $138.13) or $66,993 total ($138.13 × 485 = $66,993), rounded.

In addition, applicants for MMC endorsements as master of towing vessel (limited) and mate (pilot) of towing vessels who drive and lodge near the closest training provider offering a modified basic firefighting training course will save on travel expenses due to the shortened class time on the second day of training. Because the second day of training only involves a half day or 4 hours of training, we assume that applicants who would drive and lodge would be able to use the remainder of the day to travel home, rather than lodge for an additional night and return home the following day. As a result, we estimate a total savings of $47,045 in travel expenses from the removal of 1 day of lodging and reduced meals and incidentals. See Appendix A in the docket for an in-depth analysis of the cost savings associated with reduced travel expenses. In total, applicants for master of towing vessels (limited) and mate (pilot) of towing vessels on inland waters or Western Rivers routes will save an average of $219,011 per year—$104,973 from reduced hours spent in courses, $66,993 from reduced tuition, and $47,045 from reduced travel expenses.

Because courses must be Coast Guard-approved before they can be offered to mariners, and developing a new course and obtaining approval from the Coast Guard can be a lengthy process, we are delaying the effective date of the rule by 180 days. This will allow time both for training providers to develop a modified basic firefighting course and the Coast Guard to evaluate and approve the courses prior to the effective date. However, we assume that a modified firefighting course will not be widely available until the second year of analysis. We show the 10-year distribution of cost savings in table 10.

Table 10—Discounted Cost Savings Over a 10-Year Period of Analysis in 2021 Dollars at 7% and 3%
Year | Undiscounted cost savings | Discounted cost savings: 7% | Discounted cost savings: 3%
1 |  |  |
2 | $219,011 | $191,293 | $206,439
3 | 219,011 | 178,778 | 200,426
4 | 219,011 | 167,082 | 194,588
5 | 219,011 | 156,152 | 188,921
6 | 219,011 | 145,936 | 183,418
7 | 219,011 | 136,389 | 178,076
8 | 219,011 | 127,466 | 172,889
9 | 219,011 | 119,127 | 167,854
10 | 219,011 | 111,334 | 162,965
Total | 1,971,099 | 1,333,558 | 1,6558,576
Annualized |  | 189,869 | 194,084

Unquantified Benefits of the Rule

There is no data to quantify any additional benefits beyond the cost savings estimated and noted above. However, a qualitative benefit of this rule is that there will be firefighting courses that are more tailored to the credential endorsement.

Analysis of Alternatives

In addition to our preferred alternative, which is discussed throughout the remainder of this RA, we considered three additional alternatives:

(1) No action, or maintaining the requirement that masters and mates (pilots) of towing vessels be required to take a basic firefighting course. With this alternative, applicants would not benefit from a shorter, modified basic firefighting course. Therefore, there would be no cost savings. We rejected the no-action alternative because it would not create cost savings for mariners seeking an endorsement for master or mate (pilot) of towing vessels on inland waters or Western Rivers.

(2) We also considered an alternative from a comment submitted during our request for feedback. This commenter recommended that the Coast Guard eliminate the approved training requirement and rely instead on drills required by existing regulations to ensure mariner competence in firefighting. Proponents of this alternative are likely to argue that the absence of a training requirement could lead to cost savings from: (1) no longer traveling to, paying for, or spending time in the training. However, the Coast Guard believes this alternative has serious drawbacks. First, as noted earlier, firefighting training ensures that mariners have fundamental firefighting and emergency skills that allow for effective fire prevention and the quick extinguishment of small fires that could otherwise spread and lead to property damage and personnel injury or death. Without the training, the Coast Guard cannot be sure that mariners would have the necessary skills to combat fires should they occur on vessels. Second, instructors in courses that are approved by the Coast Guard are required to have experience or training in effectively delivering course material. Third, the content of company managed training and drills would likely be less intensive and exhaustive than what training providers will offer. Firefighting courses include live fire exercises and practical experience identifying potential fire hazards and extinguishing live fires. As part of approved training, these types of activities take place in a controlled environment, allowing students to meet learning objectives while keeping them safe from the associated hazards. These practical exercises cannot be carried out on an operational vessel. Fourth, it is common for mariners to work on different vessels and for different companies. There is a need for the common foundational training that a Coast Guard-approved course provides. While individuals no longer being required to take a firefighting course may view this as a benefit via cost savings, the Coast Guard views this as unacceptably decreasing the quality of firefighting skills and decreasing the safety of the inland waters and Western Rivers towing vessel fleet.

Taken together, these four findings would lower the safety and preparedness of the inland waters and Western Rivers towing vessel fleet substantially. Therefore, the Coast Guard rejected this alternative.

(3) The third alternative we considered was permitting firefighting training specific to inland waters and Western Rivers towing vessels but requiring the new training to have the same 16 hours of coursework and cover additional topics and situations common to inland waters and Western Rivers towing vessels not previously required by regulation. While the addition of topics for training could be beneficial, the Coast Guard has no data or feedback to support its impact on safety. Additionally, the Coast Guard believes training providers will have little incentive to undergo the expense of developing a firefighting course that will not provide cost savings to mariners.

Both courses would occur over 2 days. In the 16-hour course suggested by this alternative, the mariner would likely experience a cost savings from reduced tuition because there would be fewer equipment needs used for the training; however, we do not have a way to estimate the size of this reduction in fees. This reduction in fees would almost certainly be less than the reduction in fees for a 12-hour course instead of a 16-hour course, because the instructors would spend more hours in class under the 16-hour course. Additionally, a 16-hour course would not result in the cost savings from the 4-hour reduced training duration, estimated at $104,973 annually. As a result, the Coast Guard rejected this alternative because it did not lead to the highest cost savings.

Net Cost Savings

As documented above, there will be costs to training providers and the Coast Guard, and cost savings to mariners who will have the option to complete a modified basic firefighting course. Table 11 presents the net cost savings to mariners and the Government over a 10-year period of analysis, in 2021 dollars.

Table 11—Discounted Net Cost Savings Over a 10-Year Period of Analysis in 2021 Dollars at 7% and 3%
Year | Undiscounted cost savings | Discounted cost savings: 7% | Discounted cost savings: 3%
1 | −$25,407 | −$23,745 | −$24,667
2 | 219,011 | 191,293 | 206,439
3 | 219,011 | 178,778 | 200,426
4 | 219,011 | 167,082 | 194,588
5 | 219,011 | 156,152 | 188,921
6 | 205,983 | 137,255 | 172,508
7 | 219,011 | 136,389 | 178,076
8 | 219,011 | 127,466 | 172,889
9 | 219,011 | 119,127 | 167,854
10 | 219,011 | 111,334 | 162,965
Total | 1,932,664 | 1,301,133 | 1,619,999
Annualized |  | 185,252 | 189,913

B. Small Entities

Under the Regulatory Flexibility Act, 5 U.S.C. 601-612, we have considered whether this rule will have a significant economic impact on a substantial number of small entities. The term “small entities” comprises small businesses, not-for-profit organizations that are independently owned and operated and are not dominant in their fields, and governmental jurisdictions with populations of less than 50,000.

As described in section VI. A., Regulatory Planning and Review, there will be two affected populations: (1) training providers who develop and submit a course to the Coast Guard for approval, and (2) applicants for master of towing vessels (limited) and mate (pilot) of towing vessels operating on inland waters or Western Rivers. Applicants are individuals and not entities; as such, the second affected population does not contain any small entities.

Of the 91 training providers approved to offer a basic firefighting course, the Coast Guard identified 35 training providers who might submit requests for course approval to teach a modified firefighting course.³⁸ Of these 35 providers:

³⁸ In the Affected Population section, we estimated that 23 providers will most likely be impacted by this rule based on their location and other factors. While we estimated that 23 providers will be most likely impacted, we identified 35 providers that might offer a modified basic firefighting course. For the purposes of the regulatory flexibility analysis, and because we did not know with certainty which of the 35 training providers will be impacted, we reviewed the potential costs to any of 35 entities to see if this rule will be likely to have a substantial impact on small entities. These 35 training providers are available in the docket where indicated under the ADDRESSES portion of the preamble (See Table A1: Basic Firefighting Training Providers, Course Cost, and Likelihood to Offer a Modified Basic Firefighting Course).

• 13 are public agencies, none of which are classified as small entities;

• 4 are non-profit organizations, and all 4 are classified as small entities;

• 18 are private companies. Of these, 4 are not classified as small businesses, 8 are classified as small businesses, and 6 could not be classified because information could not be found on those 6 businesses. We classify those 6 businesses, where information could not be found, as small entities.

In total, we classified 18 of 35 entities as small entities. Table 12 lists the North American Industry Classification System (NAICS) codes and size standards used to determine whether entities are small and the numbers of small entities.

Table 12—Size Standards and the Affected Entities
NAICS U.S. industry title | NAICS code | Size standard | Number of entities | Number of small entities
Small Government Jurisdiction | N/A | “governments of cities, counties, towns, townships, villages, school districts, or special districts with a population of less than 50,000” | 13 | 0
Small Organization | N/A | “any not-for-profit enterprise that is independently owned and operated and not dominant in its field” | 4 | 4
Crude Petroleum Extraction | 211120 | 1,250 employees | 1 | 0
Inland Water Freight Transportation | 483211 | 750 employees | 1 | 1
Inland Water Passenger Transportation | 483212 | 500 employees | 1 | 0
Navigational Services to Shipping | 488330 | $41.5 million in revenue | 2 | 1
Human Resources Consulting Services | 541612 | $16.5 million in revenue | 1 | 1
Business and Secretarial Schools | 611410 | $8 million in revenue | 1 | 1
Other Technical and Trade Schools | 611519 | $16.5 million in revenue | 3 | 3
Sports and Recreation Instruction | 611620 | $8 million in revenue | 1 | 1
Ambulance Services | 621910 | $16.5 million in revenue | 1 | 0
Firms Where the Industry Could not be Identified | N/A | N/A | 6 | 6
Total |  |  | 35 | 18

As shown in the Costs section of this RA, we estimate that it takes either 6 hours to prepare and submit a course approval request for a modified basic firefighting course or 12 hours if the course approval request requires additional information and resubmission. A training and development specialist's time is valued at a burdened rate of $45.51, for a total cost of either $273.06, or $546.12.³⁹ For this rule to impose a significant impact on a small entity, the impact would have to be greater than 1 percent (.01) of a small entity's annual revenue. That is, for this rule to have a significant economic impact on an entity, the entity's annual revenue has to be less than $54,612 ($546.12 ÷ 0.01 = $54,612). Out of the 8 small entities for which we had revenue information, none had annual revenue under $54,612. Table 13 indicates the distribution of revenue impacts for the small entities for which we were able to identify revenue information.⁴⁰

³⁹ See footnote 26 for a calculation of the burdened wage rate for training and development specialists. 6 hours × $45.51 per hour is $273.06, while 12 hours × $45.51 per hour is $546.12.

⁴⁰ We were not able to identify revenue information for the 4 nonprofit small entities and for 6 firms we identified as small businesses.

Table 13—Distribution of Revenue Impacts
Percent of revenue impact | Average annual impact | Small entities with known revenue | Portion of small entities with known revenue
<1% | $546.12 | 8 | 100
1-3% | 546.12 | 0 | 0
>3% | 546.12 | 0 | 0

Therefore, based on this analysis, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of federal employees who enforce, or otherwise determine compliance with, federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for a change to the existing information collection (OMB Control Number 1625-0028) under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering, and maintaining the data needed, and completing and reviewing the collection.

Title: Course Approval and Records for Merchant Mariner Training Schools.

OMB Control Number: 1625-0028.

Summary of the Modification to the Collection of Information: This rule permits training providers to offer a new course, approved under 46 CFR 10.402 and 10.403, by permitting inland waters and Western Rivers towing vessel master and mate (pilot) applicants to take a modified basic course in lieu of a basic firefighting course.

Need for Information: The Coast Guard will need to receive a course approval submission from training providers who will offer a modified basic inland waters and Western Rivers towing vessel firefighting course.

Proposed Use of the Information: The collection of information is intended to ensure that training providers meet the regulatory requirements for the courses that they offer.

Description of the Respondents: The respondents are training providers wishing to offer a modified basic inland waters and Western Rivers towing vessel firefighting course.

Number of Respondents: The Coast Guard estimates that there will not be any additional respondents, because the training providers requesting approval of a modified basic inland waters and Western Rivers towing vessel firefighting course already have other courses approved by the Coast Guard. As such, the Coast Guard expects there will be no additional respondents because the respondents are already included in the collection of information. Out of the 315 current annual respondents for OMB Control Number 1625-0028, 91 are currently approved to offer a basic firefighting course. Based on information provided by an SME from the Coast Guard's Office of Merchant Mariner Credentialing, we estimate that 23 of the 91 training providers offering a basic firefighting course will likely request approval of a modified basic inland waters and Western Rivers towing vessel firefighting course.

Frequency of Response: We expect that 62 percent of the training providers will request course approval and not need to provide additional information, and the other 38 percent will request course approval and need to provide additional information. The Coast Guard expects these requests to happen in the first year. Therefore, we estimate that there will be 32 additional responses from this rule (23 initial submissions, plus 9 submissions of additional information).

Burden of Response: Out of the 32 responses, the Coast Guard estimates that 23 will take 6 hours to request approval of a modified basic inland waters and Western Rivers towing vessel firefighting course because the training provider's submission complies with Coast Guard policies and regulations. Another 9 responses will take an additional 6 hours because the course package will need to be revised and resubmitted.

Estimate of Total Annual Burden: All 32 responses will take 6 hours to complete. Consequently, the Coast Guard estimates that 32 × 6, or 192 hours, will be incurred by training providers in requesting new modified basic firefighting course approvals.

As required by 44 U.S.C. 3507(d), we will submit a copy of this rule to OMB for its review of the collection of information.

You are not required to respond to a collection of information unless it displays a currently valid OMB control number. OMB has not yet completed its review of this collection. Once OMB completes action on our information collection request, we will publish a Federal Register notice describing OMB's action.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132. Our analysis follows.

It is well settled that States may not regulate in categories reserved for regulation by the Coast Guard. It is also well settled that all of the categories covered in 46 U.S.C. 7101 (personnel qualifications of officers serving on board merchant vessels), and any other category in which Congress intended the Coast Guard to be the sole source of a vessel's obligations, are within the field foreclosed from regulation by the States. See, e.g., United States v. Locke, 529 U.S. 89 (2000) (finding that the states are foreclosed from regulating tanker vessels) see also Ray v. Atlantic Richfield Co., 435 U.S. 151, 157 (1978) (state regulation is preempted where “the scheme of federal regulation may be so pervasive as to make reasonable the inference that Congress left no room for the States to supplement it [or where] the Act of Congress may touch a field in which the federal interest is so dominant that the federal system will be assumed to preclude enforcement of state laws on the same subject.” (citations omitted)). Because this rule involves the credentialing of merchant mariner officers under 46 U.S.C. 7101, it relates to personnel qualifications for vessels subject to a pervasive scheme of federal regulation and is therefore foreclosed from regulation by the States. Because the States may not regulate within this category, this rule is consistent with the principles of federalism and preemption requirements in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION section of this preamble.

Therefore, because the States may not regulate within these categories, this rule is consistent with the fundamental federalism principles and preemption requirements described in Executive Order 13132.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01, Rev. 1,⁴¹ associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This rule is categorically excluded under paragraphs L52 and L56 of Appendix A, Table 1 of DHS Instruction Manual 023-01-001-01, Rev.1. Paragraph L52 pertains to regulations concerning vessel operation safety standards and paragraph L56 pertains to regulations concerning the training, qualifying, and credentialing of maritime personnel.

⁴¹ https://www.dhs.gov/sites/default/files/publications/DHS_Instruction%20Manual%20023-01-001-01%20Rev%2001_508%20Admin%20Rev.pdf. This document was last accessed on April 24, 2023.

This rule revises the existing merchant mariner credentialing training requirements for national endorsements as master and mate (pilot) for towing vessels. The changes apply to mariners working on towing vessels inspected under 46 CFR subchapter M when operating on inland waters or Western Rivers routes. Under the rule, these mariners will only be required to complete training that is relevant to the firefighting equipment that is available on their vessels. This change promotes marine safety by focusing attention on the resources actually available to affected mariners.

List of Subjects in 46 CFR Part 11

Penalties, Reporting and recordkeeping requirements, Schools, Seamen.

For the reasons discussed in the preamble, the Coast Guard amends 46 CFR part 11 as follows:

1. The authority citation for part 11 is revised to read as follows:

Authority: 14 U.S.C. 503; 31 U.S.C. 9701; 46 U.S.C. 2101, 2103, and 2110; 46 U.S.C. chapter 71; 46 U.S.C. 7502, 7505, 7701, 8906, and 70105; E.O. 10173; DHS Delegation No. 00170.1, Revision No. 01.3. Section 11.107 is also issued under the authority of 44 U.S.C. 3507.

2. Amend § 11.201 by:

a. Revising the first sentence of paragraph (h)(1) introductory text;

b. Revising paragraphs (h)(2)(i), (h)(3)(i) and (ii);

c. Adding paragraphs (h)(3)(iii) and (iv); and

d. In paragraph (l), after the word “service” and before the words “and examination” adding the text “, training”.

The revisions and additions read as follows:

§ 11.201 General requirements for national and STCW officer endorsements.

* * * * *

(h) * * *

(1) Applicants for an original officer endorsement in the following categories must present a certificate of completion from a firefighting course of instruction relevant to the endorsement being sought that has been approved by the Coast Guard. * * *

(2) * * *

(i) All national officer endorsements as master or mate on seagoing vessels of 200 GRT or more.

* * * * *

(3) * * *

(i) All officer endorsements as master on vessels of less than 500 GT in ocean service.

(ii) All officer endorsements for master or mate (pilot) of towing vessels for service on near-coastal waters, except apprentice mate (steersman) of towing vessels.

(iii) All officer endorsements for master or mate (pilot) of towing vessels for service on Great Lakes, except apprentice mate (steersman) of towing vessels.

(iv) All officer endorsements as master or mate (pilot) of towing vessels for service on inland waters or Western Rivers, except apprentice mate (steersman) of towing vessels.

(A) The Coast Guard will accept a Coast Guard-approved modified basic firefighting course, which is the basic firefighting training described in paragraph (h)(3) of this section modified to only cover the equipment, fire prevention procedures, and firefighting operations required on towing vessels on inland waters or Western Rivers routes required in 46 CFR parts 140 and 142. A mariner who completes this modified basic firefighting course will be issued an endorsement that is restricted to inland waters or Western Rivers.

(B) To increase in scope to Great Lakes, near-coastal or oceans, the applicant will be required to complete the firefighting course appropriate to the route sought.

* * * * *

Dated: September 21, 2023.
W.R. Arguin,
Rear Admiral, U.S. Coast Guard, Assistant Commandant for Prevention Policy.

[FR Doc. 2023-21560 Filed 10-2-23; 8:45 am]

BILLING CODE 9110-04-P